DEPARTMENT OF TRANSPORTATION

Federal Railroad Administration

[Docket Number FRA-2013-0125]

Notice of Application for Approval of Discontinuance or Modification of a Railroad Signal System

In accordance with Part 235 of Title 49 Code of Federal Regulations and 49 U.S.C. 20502(a), this document provides the public notice that by a document dated September 3, 2013, Union Pacific Railroad (UP) and BNSF Railway (BNSF) jointly petitioned the Federal Railroad Administration (FRA) seeking approval for the discontinuance or modification of a signal system. FRA assigned the petition Docket Number FRA-2013-0125.

Applicants:

Union Pacific Railroad, Mr. Phillip A. Danner, AVP Engineering-Signal, 1400 Douglas Street, MS 0910, Omaha, NE 68179

BNSF Railway, Mr. James G. Levere, AVP Signal, 2600 Lou Menk Drive, OOB-3, Fort Worth, TX 76131

UP and BNSF jointly seek approval of the proposed temporary discontinuance of the signal system at Tower 55 in Fort Worth, TX. The limits of the temporary discontinuance are as follows:

• Fort Worth Subdivision from Milepost (MP) 249.5 to MP 251.0

• Fort Worth Subdivision Ney Bypass from MP 248.84 to MP 250.50

• Dallas Subdivision from MP 247.8 to MP 244.20

• Choctaw Subdivision #1 Track and Gauntlet Track from MP 754.20 to MP 755.50

• Choctaw Subdivision #2 Track and North Yard Siding from MP 752.20 to MP 754.40

• Duncan Subdivision from MP 611.90 to MP 612.90

The purpose of the temporary discontinuance is to support the installation of new track and a revised signal system. UP and BNSF estimate the discontinuance to be no more than 120 consecutive days, within a time period starting after July 1, 2014, and ending before April 1, 2015. During the discontinuance, trains will operate through the area via Form “C” rules, under the direction of the Employee-In-Charge.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by February 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC.
Robert C. Lauby,
Associate Administrator for Railroad Safety, Chief Safety Officer.

[FR Doc. 2013-30535 Filed 12-23-13; 8:45 am]

BILLING CODE 4910-06-P